DEPARTMENT OF COMMERCE

National Oceanic and Atmospheric Administration

50 CFR Part 635

[I.D. 111400A]

Atlantic Highly Migratory Species (HMS) Fisheries; Large Coastal, Pelagic, and Small Coastal Shark Species

AGENCY: National Marine Fisheries Service (NMFS), National Oceanic and Atmospheric Administration (NOAA), Commerce.

ACTION: Fishing season notification.

SUMMARY: NMFS notifies eligible participants of the opening and closing of fishing seasons for Atlantic large coastal sharks (LCS), small coastal sharks (SCS), and pelagic sharks.

DATES: The fishery opening for LCS is effective January 1, 2001; the LCS closure is effective from 11:30 p.m. local time March 24, 2001, through June 30, 2001. The fishery opening for SCS and pelagic sharks is January 1, 2001; no closure dates for these fisheries are included in this document.

FOR FURTHER INFORMATION CONTACT: Margo Schulze-Haugen or Karyl Brewster-Geisz, 301-713-2347; fax 301-713-1917.

SUPPLEMENTARY INFORMATION: The Atlantic shark fishery is managed under the Fishery Management Plan for Atlantic Tunas, Swordfish, and Sharks (HMS FMP), and its implementing regulations found at 50 CFR part 635 issued under authority of the Magnuson-Stevens Fishery Conservation and Management Act (16 U.S.C. 1801 et seq.).

On June 30, 1999, NMFS received a Court Order from Judge Steven D. Merryday enjoining NMFS from enforcing the 1999 regulations, 64 FR 29090 (May 28, 1999), regarding Atlantic shark commercial catch quotas and fish-counting methods (including the counting of dead discards and state commercial landings after Federal closures) that are different from the quotas and fish counting methods prescribed by the 1997 Atlantic shark regulations, 62 FR 16648 (April 7, 1997). On June 12, 2000, the Court issued another order permitting NMFS to implement and enforce the 1999 prohibited species provisions. NMFS and plaintiffs recently reached settlement in this litigation; NMFS intends to publish an emergency rule consistent with the settlement agreement once the Court stipulates to the settlement agreement.

As such, the annual 2001 LCS quota continues at the 1997 level of 1,285 mt dw for all species of LCS, (Table 1 of appendix A to part 635), with no minimum size on ridgeback LCS. The SCS and pelagic shark quotas also remain at the annual 1997 levels, of 1,760 and 580 mt dw, respectively. The prohibited species provisions will be enforced. A list of prohibited shark species can be found in Table 1 of Appendix A to part 635, part D. The limited access provisions for commercial harvests still apply, including trip limits for directed and incidental shark permit holders.

The first semiannual fishing season of the 2001 fishing year for the commercial fishery for LCS in the western north Atlantic Ocean, including the Gulf of Mexico and the Caribbean Sea, will open January 1, 2001. In 1998, 1999, and 2000, the first semiannual fishing season remained open until March 31 of each year. In all three years, the semiannual quota was exceeded. Catch rate data from the first semiannual fishing season from 1998 and 1999 for LCS species indicate that approximately 70 percent of the LCS quota had been taken by the end of February of each year. In 2000, catch rate data indicate that approximately 55 percent of the LCS quota had been taken by the end of February. In addition, catch rate data in all three years indicate that catch rates increase through the month of March. Accordingly, the Assistant Administrator for Fisheries (AA) has determined, based on these catch rates and the available quota, that the quota for the 2001 first semiannual season for LCS in or from the western north Atlantic Ocean, including the Gulf of Mexico and Caribbean Sea, will be attained as of March 24, 2001. The LCS fishery will close March 24, 2001, at 11:30 p.m. local time.

During a closure, retention of, fishing for, possessing or selling LCS are prohibited for persons fishing aboard vessels issued a limited access permit under 50 CFR 635.4. The sale, purchase, trade, or barter of carcasses and/or fins of LCS harvested by a person aboard a vessel that has been issued a permit under 50 CFR 635.4 are prohibited, except for those that were harvested, offloaded, and sold, traded, or bartered prior to the closure and were held in storage by a dealer or processor.

The first semiannual quota for SCS is 880 mt dw. The first semiannual quota for pelagic sharks is 290 mt dw. When quotas are projected to be reached for these fisheries, the AA will file notification of closure at the Office of the Federal Register at least 14 days before the effective date.

Those vessels that have not been issued a limited access permit under 50 CFR 635.4 may not sell sharks and are subject to the recreational retention limits and size limits specified at 50 CFR 635.22(c) and 635.20(d), respectively. The recreational fishery is not affected by any closure in the commercial fishery.

Classification

This action is taken under 50 CFR part 635 and is exempt from review under Executive Order 12866.

Authority: 16 U.S.C. 1801 et seq.

Dated: November 29, 2000.
Bruce C. Morehead,
Acting Director, Office of Sustainable Fisheries, National Marine Fisheries Service.

[FR Doc. 00-30821 Filed 12-4-00; 8:45 am]

BILLING CODE 3510-22-S